DEPARTMENT OF HEALTH AND HUMAN SERVICES

Office of the Secretary

[Document Identifier: HHS-OS-0990-0422-30-D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0422, scheduled to expire on August 31, 2015. Comments submitted during the first public review of this ICR will be provided to OMB. OMB will accept further comments from the public on this ICR during the review and approval period.

DATES: Comments on the ICR must be received on or before March 26, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0422 and document identifier HHS-OS-30D for reference.

Information Collection Request Title: Education and Training of Healthcare Providers as a Coordinated Public Health Response to Violence Against Women

Abstract: The Office on Women's Health (OWH) recently received an approval by OMB 0990-0422 which expires August 31, 2015; however OWH is now requesting a three year extension to further conduct the pilot and evaluation of an eLearning course developed as part of the “Education and Training of Healthcare Providers as a Coordinated Public Health Response to Violence Against Women Project”. The purpose of this data collection is to gather data from healthcare providers who have volunteered to participate in the pilot and evaluation of an e-learning course designed to educate and train healthcare providers on how to respond to intimate partner violence (IPV) against women. Information obtained from this data collection will be used to identify areas of improvement and measure the effectiveness of the e-learning course in educating healthcare providers about IPV, addressing attitudinal barriers to IPV screening, and increasing IPV screening in clinical practice. This data will also help identify any problems in the navigation and functioning of the e-learning course. The results of this evaluation will assist OWH in making revisions to the course and subsequently coordinating a national launch, making the e-learning course available to healthcare providers across the U.S. All data collection forms and activities will be used within a year time frame.

Likely Respondents: The respondents for this pilot and evaluation are healthcare providers (physicians, nurses, and social workers) who are members of professional associations and who provide services in Nevada, Oklahoma, and South Carolina.

Total Estimated Annualized Burden—Hours
Form name | Number of respondents | Number of responses per respondent | Average burden per response (in hours) | Total burden hours
Pre-Assessment | 1600 | 1 | 25/60 | 667
Post-Assessment | 1600 | 1 | 25/60 | 667
Follow-up Assessment | 1600 | 1 | 25/60 | 667
Total |  |  |  | 2001

Darius Taylor,
Information Collection Clearance Officer.

[FR Doc. 2015-03749 Filed 2-23-15; 8:45 am]

BILLING CODE 4150-33-P